CONSUMER PRODUCT SAFETY COMMISSION

Sunshine Act Meeting

AGENCY: Consumer Product Safety Commission, Washington, DC 20207.

Time and Date: Wednesday, April 3, 2002, 2:00 p.m.

Location: Room 410, East West Towers, 4330 East West Highway, Bethesda, Maryland.

Status: Closed to the Public—Pursuant to 5 U.S.C. 552b(f)(1) and 16 CFR 1013.4(b) (3), (7), (9), and (10) and submitted to the Federal Register pursuant to 5 U.S.C. 552b(e)(3).

Matter to be Considered: Compliance Status Report. The staff will brief the Commission on the status of various compliance matters.

For a recorded message containing the latest agenda information, call (301) 504-0709.

CONTACT PERSON FOR ADDITIONAL INFORMATION: Todd A. Stevenson, Office of the Secretary, 4330 East West Highway, Bethesda, MD 20207 (301) 504-0800.

Dated: March 25, 2002.
Todd A. Stevenson,
Secretary.

[FR Doc. 02-7722 Filed 3-26-02; 3:08 pm]

BILLING CODE 6355-01-M